DEPARTMENT OF AGRICULTURE

Forest Service

Apache-Sitgreaves National Forests; Arizona; Heber Wild Horse Territory Plan

AGENCY: Forest Service, USDA.

ACTION: Notice of intent to prepare an Environmental Impact Statement.

SUMMARY: The Forest Service will prepare a Draft Environmental Impact Statement (DEIS) to evaluate the environmental impacts of developing and implementing a Territory Plan for the Heber Wild Horse Territory.

DATES: Comments concerning the scope of the analysis must be received by September 15, 2008. The Draft Environmental Impact Statement is expected by May 2009 and the final Environmental Impact Statement is expected November 2009.

ADDRESSES: Send written comments to Heber Wild Horse Territory Plan Analysis, c/o Deryl Jevons, Acting Forest Supervisor, P.O. Box 640, Springerville, AZ 85938, or send e-mail comments to comments-southwestern-apache-sitgreaves@fs.fed.us, using the subject heading Heber Wild Horse Territory Plan Analysis. For further information, mail correspondence to Denise Van Keuren, Interdisciplinary Team Leader, Apache-Sitgreaves National Forests, P.O. Box 640, Springerville, AZ 85938.

FOR FURTHER INFORMATION CONTACT: Denise Van Keuren, Interdisciplinary Team Leader, Apache-Sitgreaves National Forests (see address above).

SUPPLEMENTARY INFORMATION:

Purpose and Need for Action

There is a need for developing a Heber Wild Horse Territory Management Plan, to be in compliance with the Wild Free-Roaming Horses and Burros Act of 1971, as amended by Federal Land Policy Management Act of 1976 and Public Rangelands Improvement Act of 1978, regulation at 36 CFR, part 222, subpart B, 222.21(a)(4), and the Forest Service's manual direction at FSM 2263.1. In addition, Item 4 of the “In Defense of Animals, et al. vs. United States Forest Service, et al.” Stipulation Agreement dated March 13, 2007 directs the Forest Service to develop a Heber Wild Horse Territory Management Strategy, in accordance with the provisions of the Wild Free-Roaming Horses and Burros Act of 1971, which requires a Territory Management Plan.

Proposed Action

Develop and implement a plan for the Heber Wild Horse Territory, setting parameters for determining horse numbers, when and how to gather horses, which horses would be authorized for the Territory, population and ecological monitoring. The Heber Wild Horse Territory and its boundaries were established in 1973 following passage of the Wild Free-Roaming Horses and Burros Protection Act of 1971. The territory was designated as an area of about 19,700 acres used by a known band of horses, south of Heber, Arizona. There has not yet been a plan developed for the Territory.

Possible Alternatives

The only other alternative identified at this time is No Action—do not develop a Territory Plan.

Responsible Official

Deryl Jevons, Acting Forest Supervisor, Apache-Sitgreaves National Forests, P.O. Box 640, Springerville, AZ 85938.

Nature of Decision To Be Made

The decision to be made in this analysis is whether or not to develop a plan for the Heber Wild Horse Territory, and if so, the main parameters of the plan. In addition, the Responsible Official may elect to require certain mitigation measures to minimize environmental impacts.

Scoping Process

Scoping was initiated in 2007, with a public notice and two open house meetings in March 2007, both in Overgaard, AZ. Planned scoping efforts include mailing out a scoping letter and making it available on the National Forest Web page for the Heber Wild Horse Territory.

Comment Requested

This notice of intent updates the scoping process which guides the development of the Environmental Impact Statement. Public participation is important at several points during the analysis process. The first point is the scoping process (40 CFR 1501.7). The scoping process includes, but is not limited to: (1) Identifying potential issues; (2) identifying issues to be analyzed in depth; (3) eliminating insignificant issues or those that have been covered by a relevant previous environmental analysis; (4) exploring additional alternatives; and (5) identifying potential direct, indirect and cumulative environmental effects of the alternatives.

Early Notice of Importance of Public Participation in Subsequent Environmental Review: A Draft Environmental Impact Statement will be prepared for comment. The comment period on the Draft Environmental Impact Statement will be 45 days from the date the Environmental Protection Agency publishes the notice of availability in the Federal Register.

The Forest Service believes, at this early stage, it is important to give reviewers notice of several court rulings related to public participation in the environmental review process. First, reviewers of Draft Environmental Impact Statements must structure their participation in the environmental review of the proposal so that it is meaningful and alerts an agency to the reviewer's position and contentions. Vermont Yankee Nuclear Power Corp. v. NRDC, 435 U.S. 519, 553 (1978). Also, environmental objections that could be raised at the Draft Environmental Impact Statement stage but that are not raised until after completion of the final Environmental Impact Statement may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final Environmental Impact Statement.

To assist the Forest Service in identifying and considering issues and concerns on the proposed action, comments on the Draft Environmental Impact Statement should be as specific as possible. It is also helpful if comments refer to specific pages or chapters of the draft statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: July 30, 2008.
Deryl D. Jevons,
Acting Forest Supervisor, Apache-Sitgreaves National Forests.

[FR Doc. E8-18663 Filed 8-12-08; 8:45 am]

BILLING CODE 3410-11-M